ENVIRONMENTAL PROTECTION AGENCY

[MO 163-1163; FRL-7271-8]

Clean Air Act Operating Permit Program; Petition for Objection to State Operating Permit for Doe Run Buick Mine and Mill

AGENCY: Environmental Protection Agency (EPA).

ACTION: Notice of final order on petition to object to state operating permit.

SUMMARY: This document announces that the EPA Administrator has responded to a citizen petition asking EPA to object to the operating permit issued to Doe Run Buick Mine and Mill by the Missouri Department of Natural Resources (MDNR). Specifically, the Administrator has partially granted and partially denied a petition submitted by the Sierra Club to object to the State operating permit issued to Doe Run Buick Mine and Mill in Boss, Missouri.

ADDRESSES: You may review copies of the final order, the petition, and other supporting information at the EPA, Region 7, 901 N. Fifth Street, Kansas City, Kansas 66101. If you wish to examine these documents, you should make an appointment at least 24 hours before visiting day. The final order is also available electronically at http://www.epa/region07/programs/artd/air/title5/petitiondb/petitiondb2000.htm.

FOR FURTHER INFORMATION CONTACT: Harriett Jones, EPA, Region 7, Air, RCRA, and Toxics Division, Air Permitting and Compliance Branch (ARTD/APCO), 901 N. 5th Street, Kansas City, Kansa 66101, (913) 551-7730, or by e-mail at jones.harriett@epa.gov.

SUPPLEMENTARY INFORMATION: The Clean Air Act (Act) affords EPA a 45-day period to review, and, as appropriate, object to operating permits proposed by state permitting authorities. Section 505(b)(2) of the Act authorized any person to petition the EPA Administrator within 60 days after the expiration of this review period to object to state operating permits if EPA has not done so. Petitions must be based only on objections to the permit that were raised with reasonable specificity during the public comment period provided by the state, unless the petitioner demonstrates that it was impracticable to raise these issues during the comment period, or the grounds for the issues arose after this period.

On October 4, 2000, the EPA received a petition from the Sierra Club requesting that EPA object to the issuance of the title V operating permit to Doe Run Buick Mine and Mill. The petition alleged that the final title V permit contains a number of inadequate or unclear monitoring conditions, lacks an appropriate Statement of Basis, and does not assure compliance with all applicable requirements as mandated by 40 CFR 70.1(b) and 40 CFR 70.6(a)(1) because many individual permit conditions are not practically enforceable and lack adequate periodic monitoring. EPA agrees with the petitioner that the permit must be revised to incorporate additional monitoring and other necessary procedures to assure compliance. The other issues raised by the petitioner are found to be without merit.

On July 31, 2002, the Administrator issued an order partially granting and partially denying the petition. The order explains the reasons behind EPA's conclusion that the MDNR must reopen the permit to incorporate additional monitoring and other necessary procedures to assure compliance with the PM10 emission limitation. The order also explains the reasons for denying the Sierra Club's remaining claims.

In accordance with section 505(b)(2) of the Act, denial of a petition is subject to judicial review under section 307 of the Act. Pursuant to section 307(b)(1), any petition for review shall be filed by November 4, 2002, in the United States Court of Appeals for the appropriate circuit.

Dated: August 22, 2002.
William Rice,
Acting Regional Administrator, Region 7.

[FR Doc. 02-22365 Filed 8-30-02; 8:45 am]

BILLING CODE 6560-50-P